DEPARTMENT OF STATE

[Public Notice: 12003]

U.S. Department of State Advisory Committee on Private International Law: Notice of Annual Meeting

The Department of State's Advisory Committee on Private International Law (ACPIL) will hold its annual meeting in hybrid format on Monday, April 24, 2023. The meeting will be held at the Georgetown University Law Center, Gewirz Student Center, 600 New Jersey Avenue NW, Washington, DC 20001. The program is scheduled to run from 9:00 a.m. to 4:00 p.m.

The meeting will include discussions on commercial arbitration, digital and financial law, and plans for the upcoming Special Commission on the Practical Operation of the 1980 Child Abduction Convention. It will also address private international law developments over the last year and possible future work. If time allows other topics of interest may be discussed.

Time and Place: The meeting will take place on Monday, April 24, 2023, at Georgetown University Law Center, Gewirz Student Center, 600 New Jersey Avenue NW, Washington, DC 20001. Those who cannot participate by either format but wish to comment are welcome to do so by email to Sharla Draemel at pil@state.gov.

Public Participation: This meeting is open to the public. Anyone attending in-person will be required to follow Georgetown University's COVID regulations and procedures, including (1) completing the online COVID clearance registration form not later than Thursday, April 20 (the link for the form will be provided once you register); (2) presenting your completed vaccination form upon arrival at the Law Center; and (3) wearing a mask throughout the meeting.

Priority for in-person seating will be given to members of the Advisory Committee, and remaining seating will be reserved based upon when persons contact pil@state.gov. Those planning to attend should provide their name, affiliation and contact information to pil@state.gov no later than April 12, 2023, stating in their response whether they will attend in-person or virtually. Room information for in-person attendance and a Zoom link for virtual attendance will be provided following registration. A member of the public needing reasonable accommodation should notify pil@state.gov not later than April 10, 2023. Requests made after that date will be considered but might not be able to be fulfilled. A more detailed agenda will be available to registered participants in advance of the meeting. Persons who wish to have their views considered are encouraged, but not required, to submit written comments in advance. Comments should be sent electronically to pil@state.gov. When you register, please indicate whether attending in-person or via Zoom. If you are attending virtually, please indicate if you require captioning.

Zachary A. Parker,
Director, Office of Directives Management, U.S. Department of State.

[FR Doc. 2023-05260 Filed 3-14-23; 8:45 am]

BILLING CODE 4710-08-P